OFFICE OF PERSONNEL MANAGEMENT

Submission for Review: Renewal of an Existing Information Collection, USA Staffing's Onboarding Features

AGENCY: Office of Personnel Management.

ACTION: 30-Day notice and request for comments.

SUMMARY: The Office of Personnel Management (OPM) offers the general public and other Federal agencies the opportunity to comment on the renewal of the following existing information collection request (ICR): OMB Control Number 3206-0278, USA Staffing's Onboarding Features.

DATES: Comments are encouraged and will be accepted until January 19, 2024.

ADDRESSES: Interested persons are invited to submit written comments on the proposed information collection. Written comments and recommendations for the proposed information collection should be sent within 30 days of publication of this notice to www.reginfo.gov/public/do/PRAMain. Find this particular information collection by selecting “Currently under 30-day Review—Open for Public Comments” or by using the search function.

FOR FURTHER INFORMATION CONTACT: A copy of this information collection request, with applicable supporting documentation, may be obtained by contacting USA Staffing Program Office, Office of Personnel Management, 1900 E Street NW, Washington, DC 20415, Attention: Bridget Dongarra via email to Bridget.Dongarra@opm.gov or by phone at 202-553-1319.

SUPPLEMENTARY INFORMATION: As required by the Paperwork Reduction Act of 1995, as amended (44 U.S.C. chapter 35), OPM is soliciting comments for this collection. This information collection was previously published in the Federal Register on March 21, 2023, at 88 FR 17042, allowing for a 60-day public comment period. No comments were received for this information collection. The purpose of this notice is to allow an additional 30 days for public comments.

In accordance with the Paperwork Reduction Act of 1995, this notice announces that OPM intends to submit to the Office of Management and Budget a request for review of a previously approved emergency collection for USA Staffing's Onboarding features. USA Staffing is OPM's talent acquisition solution. Federal agencies use USA Staffing to onboard candidates for Federal positions while complying with appropriate rules and procedures. Federal agencies purchase the services of USA Staffing through an Interagency Agreement (IAA) under the provisions of the Revolving Fund, 5 U.S.C. 1304(e)(1), which permits OPM to perform human resources management services for Federal agencies on a cost-recovery basis.

USA Staffing's public facing web page for new hires provides a single interface to submit data and forms required during the Federal onboarding process. New Hires are individuals selected for Federal employment but who have not yet entered on duty and who authenticate at USA Staffing using their USAJOBS.gov accounts. USA Staffing captures the essential information Federal agencies require to onboard applicants for Federal jobs under the authority of 5 U.S.C. 1104, 1302, 3301-3320, 3361, 3393, and 3394.

This information collection was initially approved under an emergency authorization in pursuit of compliance with Executive Order (E.O.) 14043, titled “Requiring Coronavirus Disease 2019 Vaccination for Federal Employees.” This action seeks to reinstate the information collection independent of that Executive Order and instead focus on the regular business of the USA Staffing Onboarding system—gathering new hire information in pursuit of timely and efficient entry-on-duty actions.

Some New Hire information elements collected by USA Staffing are collected under different OMB control numbers. Information for these elements that have their own approvals (such as the OF 306 and I-9 forms) are not included in this collection. The subject of this information collection includes questions about basic identity, employment and service background, benefits enrollments, and payroll. The initial emergency clearance did not distinguish between these two contexts.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management.

Title: USA Staffing, Onboarding.

OMB Number: 3206-0278.

Affected Public: Individuals.

Number of Respondents: 570,000.

Estimated Time per Respondent: 20 minutes.

Total Burden Hours: 190,000 hours.

Office of Personnel Management
Kayyonne Marston,
Federal Register Liaison.

[FR Doc. 2023-27985 Filed 12-19-23; 8:45 am]

BILLING CODE 6325-43-P